DEPARTMENT OF COMMERCE

Foreign-Trade Zones Board

[S-3-2013]

Approval of Subzone Status, Expeditors International of Washington, Inc.; El Paso, TX

On January 7, 2013, the Executive Secretary of the Foreign-Trade Zones (FTZ) Board docketed an application submitted by the City of El Paso, grantee of FTZ 68, requesting subzone status subject to the existing activation limit of FTZ 68, on behalf of Expeditors International of Washington, Inc., in El Paso, Texas.

The application was processed in accordance with the FTZ Act and Regulations, including notice in the Federal Register inviting public comment (78 FR 4124, 1/18/2013). The FTZ staff examiner reviewed the application and determined that it meets the criteria for approval.

Pursuant to the authority delegated to the FTZ Board's Executive Secretary (15 CFR Sec. 400.36(f)), the application to establish Subzone 68A is approved, subject to the FTZ Act and the Board's regulations, including Section 400.13 and further subject to FTZ 68's 2,000-acre activation limit.

Dated: March 5, 2013.
Andrew McGilvray,
Executive Secretary.

[FR Doc. 2013-05650 Filed 3-11-13; 8:45 am]

BILLING CODE 3510-DS-P